DEPARTMENT OF LABOR

Office of the Secretary

Bureau of International Labor Affairs; Office of Trade and Labor Affairs; Labor Affairs Council of the United States-Korea Free Trade Agreement; Notice of Public Session Meeting

AGENCY: International Labor Affairs Bureau (ILAB), U.S. Department of Labor.

ACTION: Notice of Public Session Meeting, March 19, 2013.

SUMMARY: Pursuant to Article 19.5 of the U.S.-Korea Free Trade Agreement (KORUS FTA), the International Labor Affairs Bureau (ILAB) of the U.S. Department of Labor gives notice of the public session of the meeting of the Labor Affairs Council (“Council” or “LAC”). The LAC public session will be held the morning of March 19, 2013. The purpose of the public session is to provide an opportunity for the Council to meet with the public to discuss matters related to the implementation of Chapter 19 (the Labor Chapter) of the KORUS FTA, including activities of the Labor Cooperation Mechanism established under Article 19.6 of the FTA.

DATES: The LAC public session will be held on Tuesday, March 19, 2013, from 9:00 a.m. to 11:30 a.m. ILAB requests those interested in attending provide their name, title, and any organizational affiliation to Emma Laury, Office of Trade and Labor Affairs, ILAB, U.S. Department of Labor, 200 Constitution Avenue NW., Room S-5303, Washington, DC 20210; phone (202) 693-4811; fax (202) 693-4851 (This is not a toll free number.); Laury.Emma.2@dol.gov, by Monday, March 4, 2013.

ADDRESSES: The LAC will meet at the U.S. Department of Labor, 200 Constitution Avenue NW., Washington, DC 20210. Exact room information will be provided upon arrival.

FOR FURTHER INFORMATION CONTACT: Emma Laury, Office of Trade and Labor Affairs, ILAB, U.S. Department of Labor, 200 Constitution Avenue NW., Room S-5303, Washington, DC 20210; phone (202) 693-4811; Laury.Emma.2@dol.gov. Individuals with disabilities wishing to attend the meeting should contact Ms. Laury no later than March 4, 2013, to obtain appropriate accommodations.

SUPPLEMENTARY INFORMATION: The LAC meeting is open to the public on a first-come, first-served basis, as seating is limited. Attendees must present valid identification and will be subject to security screening to access the Department of Labor for the meeting.

Agenda: Agenda items will include a presentation by the Council on the discussions held during the intergovernmental LAC meeting and an opportunity for questions from the public on matters related to the implementation of the Labor Chapter of the KORUS FTA.

Public Participation: The LAC will receive oral comments and questions from the audience during the meeting. The Department of Labor is also open to written comments or questions, submitted to Emma Laury at the contact information listed above, by March 4, 2013. Such written submissions will be provided to Council members and will be included in the record of the meeting.

Signed at Washington, DC, the 25th day of February, 2013.
Carol Pier,
Acting Deputy Undersecretary, Bureau of International Labor Affairs.

[FR Doc. 2013-04916 Filed 2-27-13; 4:15 pm]

BILLING CODE 4510-28-P